DEPARTMENT OF LABOR

Employment and Training Administration

[TA-W-37,366]

California Shirt Sales, Inc., Fullerton, CA; Notice of Termination of Investigation

Pursuant to section 221 of the Trade Act of 1974, an investigation was initiated on February 22, 2000 in response to a worker petition which was filed on behalf of workers at California Shirt Sales, Inc., Fullerton, California.

An active certification covering the petitioning group of workers is already in effect (TA-W-37,208A). Consequently, further investigation in this case would serve no purpose, and the investigation has been terminated.

Signed at Washington, D.C., this 10th day of April 2000.
Grant D. Beale,
Program Manager, Division of Trade Adjustment Assistance.

[FR Doc. 00-10584 Filed 4-27-00; 8:45 am]

BILLING CODE 4510-30-M